DEPARTMENT OF JUSTICE

Notice of Lodging of Proposed Amendment to Consent Decree Under the Clean Air Act

Notice is hereby given that on May 18, 2011, a proposed Consent Decree, pertaining to United States v. City of Wyandotte, No. 2-11-cv-12181, was lodged with the United States District Court for the Eastern District of Michigan.

In this action, the United States seeks civil penalties and injunctive relief for violations of Section 113(b) of the Clean Air Act (“CAA”), 42 U.S.C. 7413(b), at a power plant owned and operated by the City, and located at 2555 Van Alstyne St., Wyandotte, Wayne County, Michigan. Specifically, the Complaint alleges that the Defendant violated the emission limits established in: (1) An operating permit issued to the Defendant by the State of Michigan pursuant to Sections 501-507 of the Clean Air Act (“CAA”), 42 U.S.C. 7661-7661f; a Prevention of Significant Deterioration permit issued to the Defendant by the State of Michigan pursuant to CAA Sections 160-169, 42 U.S.C. 7470-7479; the New Source Performance Standards established pursuant to CAA Section 111, 42 U.S.C. 7411; and the federally enforceable Michigan State Implementation Plan that was prepared and adopted pursuant to CAA Section 110, 42 U.S.C. 7411.

The proposed Consent Decree would require the City to pay a civil penalty of $112,000, perform a supplemental environmental project at an estimated cost of $210,000, and install new emission controls and implement operational practices to reduce emissions. The compliance program would consist of two phases, with the second phase being required only if the first proves insufficient.

The Department of Justice will receive, for a period of thirty (30) days from the date of this publication, comments relating to the Consent Decree. Comments should be addressed to the Assistant Attorney General, Environment and Natural Resources Division, and either e-mailed to pubcomment-ees.enrd@usdoj.gov or mailed to P.O. Box 7611, U.S. Department of Justice, Washington, DC 20044-7611, and should refer to United States v. City of Wyandotte, D.J. Ref. 90-5-2-1-09346. During the public comment period, the Consent Decree may be examined on the following Department of Justice Web site: http://www.usdoj.gov/enrd/Consent_Decrees.html. A copy of the Consent Decree may also be obtained by mail from the Consent Decree Library, P.O. Box 7611, U.S. Department of Justice, Washington, DC 20044-7611 or by faxing or e-mailing a request to Tonia Fleetwood (tonia.fleetwood@usdoj.gov), fax no. (202) 514-0097, phone confirmation number (202) 514-1547. In requesting a copy from the Consent Decree Library, please enclose a check in the amount of $13.25 (25 cents per page reproduction cost), for the consent decree alone, or in the amount of $13.75 (for the consent decree and its appendix) payable to the U.S. Treasury or, if by e-mail or fax, forward a check in that amount to the Consent Decree Library at the stated address.

Maureen M. Katz,
Assistant Chief, Environmental Enforcement Section, Environment and Natural Resources Division.

[FR Doc. 2011-13352 Filed 5-27-11; 8:45 am]

BILLING CODE 4410-15-P